ENVIRONMENTAL PROTECTION AGENCY

40 CFR Part 52

[EPA-R04-OAR-2003-TN-0001, EPA-R04-OAR-2004-TN-0001-200413(b); FRL-8163-2]

Approval and Promulgation of Implementation Plans: Revisions to the Tennessee Nitrogen Oxides Budget and Allowance Trading Program

AGENCY: Environmental Protection Agency (EPA).

ACTION: Proposed rule.

SUMMARY: EPA is proposing to approve two State Implementation Plan (SIP) revisions to the Tennessee Department of Environment and Conservation's Nitrogen Oxides (NOX) Budget Trading Program (Trading Program) submitted October 27, 2003, and December 10, 2003, by the State of Tennessee. The first revision corrects a miscalculation in Tennessee's NOX trading budget for non-electric generating units (non-EGUs) resulting from the use of an incorrect control efficiency percentage for one of the Trading Program's non-EGU sources—an Eastman Chemical Company boiler. The correction of this miscalculation results in a 147 tons per season (tps) increase in Tennessee's NOX trading budget for non-EGUs—making its non-EGU trading budget 5,666 tps, instead of 5,519 tps, and increasing Tennessee's total State-wide NOX budget from 163,928 tpy to 164,075 tpy. Based on this correction, Tennessee's second revision reallocates trading allowances to Eastman Chemical Company—increasing the NOX trading allowances from 416 tps to 549 tps for the Eastman Chemical Company boiler.

In the Final Rules section of this Federal Register, EPA is approving the State's SIP revisions as a direct final rule without prior proposal because the Agency views these as noncontroversial submittals and anticipates no adverse comments. A detailed rationale for the approval is set forth in the direct final rule. If no significant, material, and adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before May 30, 2006.

ADDRESSES: Submit your comments, identified by Docket ID No. EPA-R04-OAR-2003-TN-0001 or EPA-R04-OAR-2004-TN-0001, by one of the following methods:

1. http://www.regulations.gov: Follow the on-line instructions for submitting comments.

2. E-mail: difrank.stacy@epa.gov.

3. Fax: 404-562-9019.

4. Mail: “EPA-R04-OAR-2003-TN-0001 or EPA-R04-OAR-2004-TN-0001”, Regulatory Development Section, Air Planning Branch, Air, Pesticides and Toxics Management Division, U.S. Environmental Protection Agency, Region 4, 61 Forsyth Street, SW., Atlanta, Georgia 30303-8960.

Hand Delivery or Courier: Stacy DiFrank, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays. Please see the direct final rule which is located in the Rules section of this Federal Register for detailed instructions on how to submit comments.

FOR FURTHER INFORMATION CONTACT: Stacy DiFrank, Regulatory Development Section, Air Planning Branch, Air, Pesticides and Toxics Management Division, U.S. Environmental Protection Agency, Region 4, 61 Forsyth Street, SW., Atlanta, Georgia 30303-8960. The telephone number is (404) 562-9042. Ms. DiFrank can also be reached via electronic mail at difrank.stacy@epa.gov.

SUPPLEMENTARY INFORMATION: For additional information, see the direct final rule which is published in the Rules section of this Federal Register.

Dated: April 19, 2006.
A. Stanley Meiburg,
Acting Regional Administrator, Region 4.

[FR Doc. 06-4022 Filed 4-27-06; 8:45 am]

BILLING CODE 6560-50-P